DEPARTMENT OF COMMERCE

International Trade Administration

Commercial News USA; Proposed Collection; Comment Request

ACTION: Proposed collection; comment request.

SUMMARY: The Department of Commerce, as part of its continuing effort to reduce paperwork and respondent burdens, invites the general public and other Federal agencies to take this opportunity to comment on the continuing information collections, as required by the Paperwork Reduction Act of 1995, Public Law 104-13 (44 U.S.C. 3506 (c)(2)(A)).

DATES: Written comments must be submitted on or before April 22, 2002.

ADDRESSES: Direct all written comments to Madeleine Clayton, Departmental Paperwork Clearance Officer, (202) 482-3129, Department of Commerce, Room 6086, 14th & Constitution Avenue, NW, Washington, DC 20230 or via Internet at MClayton@doc.gov.

FOR FURTHER INFORMATION CONTACT: Request for additional information or copies of the information collection instrument and instructions should be directed to Joseph English, telephone 202-482-3334, fax 202-482-5398, e-mail: Joseph.English@ita.doc.gov.

SUPPLEMENTARY INFORMATION:

I. Abstract

Commercial News USA (CNUSA), published twelve times a year by a private sector firm, is the U.S. Department of Commerce's export catalog-magazine. The product information in CNUSA reaches more than 145,000 distributors, government officials, and potential buyers overseas through direct distribution from U.S. embassies and consulates. Firms use the form to request that their product information be published in CNUSA, a service for which the firms pay a minimum fee of $695.

This information collection item allows the U.S. Department of Commerce to promote U.S. products and services available for export as part of the USDOC's trade promotion activities. CNUSA is a unique export promotion service for U.S. manufacturers and service firms; nothing similar is available to them through the private sector. The product promotions in CNUSA differ from paid advertisements in that they must meet program criteria. Because U.S. embassies and consulates handle distribution, the product information reaches a vast, screened readership not only through direct dissemination but also via counseling by commercial officers and through walk-in visits to commercial libraries where CNUSA is displayed. Further, American Chambers of Commerce, local business editors, and other trade entities that reprint information from CNUSA or display or disseminate the entire magazine provide a multiplier effect.

II. Method of Data Collection

The requests are sent to the private sector publisher.

III. Data

OMB Number: 0625-0061.

Form Number: ITA-4063P.

Type of Review: Regular submission.

Affected Public: Companies interested in placing their product information available for export in Commercial News USA.

Estimated Number of Respondents: 2,200.

Estimated Time Per Response: 20 minutes.

Estimated Total Annual Burden Hours: 733.

Estimated Total Annual Costs: $25,674.00.

IV. Request for Comments

Comments are invited on (a) whether the proposed collection of information is necessary for the proper performance of the functions of the agency, including whether the information shall have practical utility; (b) the accuracy of the agency's estimate of the burden (including hours and costs) of the proposed collection of information; (c) ways to enhance the quality, utility, and clarity of the information to be collected; and (d) ways to minimize the burden of the collection of information on respondents, including through the use of automated collection techniques or forms of information technology.

Comments submitted in response to this notice will be summarized and/or included in the request for OMB approval of this information collection; they also will become a matter of public record.

Dated: February 15, 2002.
Madeleine Clayton,
Departmental Paperwork Clearance Officer, Office of the Chief Information Officer.

[FR Doc. 02-4119 Filed 2-20-02; 8:45 am]

BILLING CODE 3510-FP-P